DEPARTMENT OF HOUSING AND URBAN DEVELOPMENT

[Docket No. FR-6231-D-01]

Delegation of Authority for the Office of Field Policy and Management

AGENCY: Office of the Secretary, HUD.

ACTION: Notice of delegation of authority.

SUMMARY: Through this notice, the Secretary of the Department of Housing and Urban Development delegates to the Assistant Deputy Secretary for Field Policy and Management and to the Director for Field Policy and Management authority for the management and oversight of the Department's field operations.

DATES: September 30, 2020.

FOR FURTHER INFORMATION CONTACT: John B. Shumway, Assistant General Counsel, Administrative Law Division, Department of Housing and Urban Development, at 451 7th Street SW, Room 9262; Washington, DC 20410-0500 or telephone number 202-402- 5190 (this is not a toll-free number). Persons with hearing or speech impairments may access this number through TTY by calling the Federal Relay Service at 1-800-877- 8339 (this is a toll-free number).

SUPPLEMENTARY INFORMATION: Previous delegations of authority from the Secretary of HUD to the Assistant Deputy Secretary for Field Policy and Management are hereby revoked and superseded, including the delegations published on September 26, 2018 (83 FR 48649).

Section A. Authority

1. Field Operations. The Secretary of HUD hereby delegates to the Assistant Deputy Secretary for Field Policy and Management and the Director for Field Policy and Management authority for the management and oversight of the Department's field operations. In carrying out this authority, the Assistant Deputy Secretary for Field Policy and Management and the Director for Field Policy and Management shall, among other duties:

a. Coordinate the implementation of the Department's policies and programs in the field in consultation with field program directors. Program coordination does not mean program decision-making but, rather, collecting local information, measuring community impact, initiating cross-program communication and coordination, and facilitating the resolution of potential program differences through the appropriate channels, if necessary.

b. Manage and assess field resources to ensure that operations are efficient and effective.

c. Coordinate and convey the Strategic Plan and Regional or Local Operating Plans with the field.

d. Advise the Secretary on policy and management of the field.

e. Consult with program directors regarding implementation of departmental management goals, secretarial and presidential initiatives, and Annual Performance commitments.

2. Promise Zone Initiative. The Secretary delegates to the Assistant Deputy Secretary for Field Policy and Management and the Director for Field Policy and Management all power and authority for the day-to-day operations and administrative functions related to the Promise Zone Initiative. The Promise Zone Initiative supports the Department's responsibilities under sections 2 and 3 of the HUD Act, 42 U.S.C. 3531-32, to assist the President in achieving maximum coordination of the various Federal activities that have a major effect upon urban community, suburban, or metropolitan development; to develop and recommend to the President policies for fostering orderly growth and development of the Nation's urban areas; and to exercise leadership, at the direction of the President, in coordinating Federal activities affecting housing and urban development. This authority includes coordination of the selection process and the development of resulting recommendations.

The delegated authority related to the Promise Zone Initiative does not include the authority to issue or waive Notices of Funding Availability or the equivalent, regulations, or statutes, but does include the authority to redelegate the authority provided.

3. Davis-Bacon and Labor Standards. The Secretary delegates to the Assistant Deputy Secretary for Field Policy and Management and the Director for Field Policy and Management all authority with respect to Davis-Bacon and Labor Standards administration and enforcement vested in, or delegated or assigned to, the Secretary under statutes and other authorities relating to Davis-Bacon and Labor Standards, including, but not limited to, the Davis-Bacon Act (40 U.S.C. 3141 et seq.), the Copeland Act (40 U.S.C. 3145), the Contract Work Hours and Safety Standards Act (40 U.S.C. 3701 et seq.), Reorganization Plan No. 14 of 1950 (5 U.S.C. App. 1 Reorg. Plan 14), the National Housing Act (12 U.S.C. 1701 et seq.), Section 202 of the National Housing Act of 1959 (12 U.S.C. 1701q), the National Affordable Housing Act (42 U.S.C. 12704 et seq.), the United States Housing Act of 1937 (42 U.S.C. 1437), the Housing and Community Development Act of 1974 (42 U.S.C. 5301 et seq.), the Native American Housing Assistance and Self-Determination Act (25 U.S.C. 4101 et seq.), Executive Order 13502 (74 FR 6985), and certain Department of Labor regulations (29 CFR parts 1, 3, 5, 6, and 7). The authority delegated includes the authority to determine or adopt prevailing wage rates, which is vested in the Secretary by certain statutes, including, but not limited to, the United States Housing Act of 1937 (42 U.S.C. 1437j) and the Native American Housing Assistance and Self-Determination Act (25 U.S.C. 4101 et seq.).

4. EnVision Center Demonstration. The Secretary delegates to the Assistant Deputy Secretary for Field Policy and Management and the Director for Field Policy and Management all power and authority for the day-to-day operations and administrative functions related to the EnVision Center Demonstration. The EnVision Center Demonstration supports households in low-income communities and offers supportive services that focus on the four pillars of: Economic Empowerment, Educational Advancement, Health and Wellness, and Character and Leadership. The EnVision Center Demonstration is authorized by Title V of the Housing and Urban Development Act of 1970 (12 U.S.C. 1701z-1 et seq.), which authorizes the Secretary to undertake such programs of research, studies, testing, and demonstration relating to the mission and programs of the Department as he determines to be necessary and appropriate. The EnVision Center Demonstration also supports the Department's responsibilities under sections 2 and 3 of the HUD Act, 42 U.S.C. 3531-32, to assist the President in achieving maximum coordination of the various Federal activities that have a major effect upon urban community, suburban, or metropolitan development; to develop and recommend to the President policies for fostering orderly growth and development of the Nation's urban areas; and to exercise leadership, at the direction of the President, in coordinating Federal activities affecting housing and urban development. This authority includes coordination of the selection process and the development of resulting recommendations.

The delegated authority related to the EnVision Center Demonstration does not include the authority to issue or waive Notices of Funding Availability or the equivalent, regulations, or statutes, but does include the authority to redelegate the authority provided.

5. Section 3 Performance Evaluation and Registry System. The Secretary of HUD hereby delegates to the Assistant Deputy Secretary for the Office of Field Policy and Management and the Director for the Office of Field Policy and Management the responsibility and authority to manage Section 3 evaluation and reporting, as authorized by Section 3 of the Housing and Urban Development Act of 1968, 12 U.S.C. 1701u, and its attendant regulations, including the Section 3 Performance Evaluation and Registry System (SPEARS) any successor reporting system, and other related systems of record; to administer Section 3 Technical Assistance funds; and to coordinate and offer best practices to external stakeholders.

Section B. Authority To Redelegate

The Assistant Deputy Secretary for Field Policy and Management and the Director for Field Policy and Management are authorized to redelegate to employees of HUD any of the authority delegated under section A above.

Section C. Authority Superseded

This Delegation supersedes all previous delegations from the Secretary of HUD to the Assistant Deputy Secretary for Field Policy and Management.

Authority: Section 7(d), Department of Housing and Urban Development Act (42 U.S.C. 3535(d)).

Benjamin S. Carson, Sr.,
Secretary.

[FR Doc. 2020-22001 Filed 10-2-20; 8:45 am]

BILLING CODE 4210-67-P